DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. chapter 35). To request a copy of the clearance requests submitted to OMB for review, call the HRSA Reports Clearance Office on (301) 443-1129.

The following request has been submitted to the Office of Management and Budget for review under the Paperwork Reduction Act of 1995:

Proposed Project: Emergency Medical Services for Children (EMSC) Grantee Survey—NEW

HRSA is planning to conduct a needs assessment to obtain information about the characteristics of State EMS systems, and the degree to which they have been adapted to address the needs of children. The results of this assessment will be used to determine funding priorities, including development of appropriate guidelines and provision of technical assistance to States, demonstration grants, information collection and sharing among State agencies, and training programs for health professionals.

HRSA has included national performance measures for EMSC in this survey in accordance with the requirements of the “Government Performance and Results Act (GPRA) of 1993” (Pub. L. 103-62). This act requires the establishment of measurable goals for Federal programs that can be reported as part of the budgetary process, thus linking funding decisions with performance.

The estimated response burden is as follows:

Collection activity | Number of respondents | Responses per respondent | Total responses | Average time per response | Total burden hours
Questionnaire | 56 | 1 | 56 | 10 | 560

Written comments and recommendations concerning the proposed information collection should be sent within 30 days of this notice to: John Morrall, Human Resources and Housing Branch, Office of Management and Budget, New Executive Office Building, Room 10235, Washington, DC 20503.

Dated: December 27, 2002.
Jon L. Nelson,
Associate Administrator for Management and Program Support.

[FR Doc. 03-114 Filed 1-2-03; 8:45 am]

BILLING CODE 4165-15-P